DEPARTMENT OF HEALTH AND HUMAN SERVICES

Centers for Disease Control and Prevention

[60Day-03-70]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210. CDC is requesting an emergency clearance for this data collection with a two week public comment period. CDC is requesting OMB approval of this package 7 days after the end of the public comment period.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 14 days of this notice.

Proposed Project: US-Mexico Border Diabetes Prevention and Control Project—Phase II Community Intervention Pilot Project—New—National Center for Chronic Disease Prevention and Health Promotion (NCCDPHP), Centers for Disease Control and Prevention (CDC). The Pan American Health Organization (PAHO), El Paso field office, in collaboration with the CDC-funded United States/Mexico Border Diabetes Prevention and Control Programs, and the Mexico Secretariat of Health will conduct Phase II of the US-Mexico Diabetes Prevention and Control Project. This phase II is the natural follow-up to the household survey to determine the burden of diabetes on the border (Phase I).

The purpose of the project is to diminish the impact of diabetes on the border population by conducting activities in two related and chronological phases (prevalence study and intervention program). Phase I, which will assess the prevalence of diabetes, related behavioral risk factors, and assess the health services for the border population, was completed in October 2002. Phase II will be implemented in eleven pilot communities, where persons living with diabetes will be randomized to either intervention group participant (IGP) or delayed intervention control group participant (DICGP). The DICGP will receive usual diabetes self management education by the health care provider in a community health center setting, and the IGP will be assigned to receive diabetes self management education reinforcement and coaching social support at the community/home level, by a Community Health Worker/Promotor de Salud (CHW/PdS). These programs will be culturally and linguistically appropriate and will include the participation of community health workers (promotores) and primary healthcare providers working as a team approach.

Activities for Phase II will include implementation of community interventions that will provide weekly site visits to the person living with diabetes and provide follow-up and support for the participant and their family. Two family members, found with the highest risk factor rating will also be intervened by the CHW/PdS. The CHW will reinforce educational messages on balanced nutrition and physical activity and provide social support and coaching to the person living with diabetes and their family members. An equal number of participants will be in the delayed intervention control group. This group and their high risk family members will complete an initial household survey and a final household survey at the end of 18 months. The CHWs will be trained in diabetes and community mobilization skills. The household survey will be repeated in the fifth year of the project for evaluation purposes.

There is no cost to the respondents.

Respondents | Number of respondents | Number of responses per respondent | Average burden per response (in hours) | Total burden (in hours)
Intervention Group Participants | 330 | 2 | 1 | 660
IGP Family Members | 660 | 2 | 1 | 1320
Delayed Intervention Control Group Participants | 330 | 2 | 1 | 660
DICGP Family Members | 660 | 2 | 1 | 1320
Total |  |  |  | 3960

Dated: May 19, 2003.
Thomas A. Bartenfeld,
Acting Associate Director for Policy, Planning and Evaluation, Centers for Disease Control and Prevention.

[FR Doc. 03-12960 Filed 5-22-03; 8:45 am]

BILLING CODE 4163-18-P